DEPARTMENT OF AGRICULTURE

Forest Service

Information Collection: Generic Clearance for Social Science and Economics Data Collections on Natural Resource Planning and Collaborative Conservation

AGENCY: Forest Service, USDA.

ACTION: Notice; request for comment.

SUMMARY: In accordance with the Paperwork Reduction Act of 1995, the Forest Service is seeking comments from all interested individuals and organizations on a new generic information collection request, Social Science and Economics Data Collections on Natural Resource Planning and Collaborative Conservation.

DATES: Comments must be received in writing on or before May 14, 2018 to be assured of consideration. Comments received after that date will be considered to the extent practicable.

ADDRESSES: Send written comments to Kenli Kim, National Program Leader for Social Science Research, Forest Service, 1400 Independence Ave. SW, Mailstop 1114, Washington, DC 20250-1114,or by electronic mail to PRAcomments@fs.fed.us, with “PRA comment on planning and collaborative conservation” in the subject line. If comments are sent by electronic mail, the public is requested not to send duplicate written comments via regular mail. Please confine written comments to issues pertinent to the information collection request, explain the reasons for any recommended changes, and, where possible, reference the specific section or paragraph being addressed.

All timely submitted comments, including names and addresses when provided, are placed in the record and are available for public inspection and copying. The public may inspect comments received on this information collection at the USDA—Forest Service headquarters, 201 14th St. SW, Washington, DC 20250 between the hours of 10:00 a.m. to 5:00 p.m. on business days. Those wishing to inspect comments should contact Kenli Kim (kkim@fs.fed.us) to facilitate an appointment and entrance to the building.

FOR FURTHER INFORMATION CONTACT: Kenli Kim, National Program Leader for Social Science Research at the Forest Service (kkim@fs.fed.us). Individuals who use telecommunication devices for the deaf (TDD) may call the Federal Relay Service (FRS) at 1-800-877-8339 twenty-four hours a day, every day of the year, including holidays.

SUPPLEMENTARY INFORMATION:

Title: Generic Clearance for Social Science Research on Natural Resource Planning and Collaborative Conservation.

OMB Number: 0596—NEW.

Expiration Date of Approval: NEW.

Type of Request: NEW.

Abstract: The USDA Forest Service's mission is “Caring for the Land and Serving People.” This includes directly managing National Forest and Grassland units and providing science-based guidelines for the management of forests, grasslands, and other natural resources in cities and towns as well as those under management by land trusts, neighborhood groups, states, and other entities. In order to fulfill this mission, the Agency needs an accurate understanding of the range of views and preferences held by stakeholders regarding the management and conservation of forests and other natural resources.

Collaborative conservation is the process of creating and executing land and resource management decisions informed by local knowledge, community participation, and science. Collaborative conservation aims to improve the health, resilience, and sustainability of natural resources and human communities and to maximize the benefits that forests, grasslands, and other natural resources provide to society. This includes environmental benefits such as clean air and water and carbon storage; economic benefits such as energy savings and timber and other forest products; and social benefits such as improved physical health, aesthetic beauty, and stress reduction. A collaborative conservation approach to land management amendments and planning revisions for forests, grasslands, and other natural resources may also help ensure environmental justice for groups and individuals whose views and concerns have not historically been taken into account in land management planning.

Managing forests, grasslands, and natural areas in a collaborative and sustainable way requires detailed, scientifically-based information about people's views on both conservation in general and about specific forests or other natural places that are important in their lives. A collaborative conservation approach to land management amendments and planning takes in-depth understanding of how groups and individuals work effectively together, how information and knowledge are shared, and how to incorporate multiple viewpoints in resource planning while effectively managing conflict.

Taking all of this into account, the Forest Service and other public and private land managers need to collect information from a wide range of stakeholders in order to make informed decisions about natural resource conservation, restoration and management, land management amendments and planning revisions. To ensure that the Forest Service can meet its statutory and regulatory responsibilities and is able to inform management of forests and other natural areas, the Forest Service is seeking OMB approval to collect information from people who use, live near, manage, make policies for, or otherwise have a stake in the management of forests and other natural resources.

Estimate of Annual Burden on Respondents: 32,183 hours/year.

Type of Respondents: Participants/respondents will be individuals, not specific entities.

Estimated Annual Number of Respondents: 251,050 year.

Estimated Annual Number of Responses per Respondent: 1 response/respondent is anticipated.

Comment Is Invited

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology. The Forest Service will consider the comments received and amend the ICR as appropriate. The final ICR package will then be submitted to OMB for review and approval.

All comments received in response to this notice, including names and addresses when provided, will be a matter of public record. Comments will be summarized and included in the submission request for final Office of Management and Budget approval.

Dated: February 15, 2018
Monica Lear,
Associate Deputy Chief, Research & Development.

[FR Doc. 2018-05003 Filed 3-12-18; 8:45 am]

BILLING CODE 3411-15-P